DEPARTMENT OF ENERGY

Federal Energy Regulatory Commission

Combined Notice of Filings #1

Take notice that the Commission received the following electric rate filings:

Docket Numbers: ER10-1107-009.

Applicants: Pacific Gas and Electric Company.

Description: Notice of Non-Material Change in Status of Pacific Gas and Electric Company.

Filed Date: 3/21/19.

Accession Number: 20190321-5103.

Comments Due: 5 p.m. ET 4/11/19.

Docket Numbers: ER12-524-004.

Applicants: Longview Power, LLC.

Description: Report Filing: Refund Report ? Informational Filing to be effective N/A.

Filed Date: 3/21/19.

Accession Number: 20190321-5142.

Comments Due: 5 p.m. ET 4/11/19.

Docket Numbers: ER19-839-001.

Applicants: Virginia Electric and Power Company, PJM Interconnection, L.L.C.

Description: Compliance filing: Dominion submits an errata to OATT, Att. H-16A revisions in Docket No. ER19-839 to be effective 6/27/2018.

Filed Date: 3/21/19.

Accession Number: 20190321-5131.

Comments Due: 5 p.m. ET 4/11/19.

Docket Numbers: ER19-1392-000.

Applicants: High Lonesome Mesa Wind, LLC.

Description: Baseline eTariff Filing: High Lonesome Mesa Wind, LLC Application for Market-Based Rates to be effective 5/19/2019.

Filed Date: 3/20/19.

Accession Number: 20190320-5149.

Comments Due: 5 p.m. ET 4/10/19.

Docket Numbers: ER19-1393-000.

Applicants: Endeavor Wind I, LLC.

Description: Baseline eTariff Filing: Endeavor Wind I, LLC Application for Market-Based Rates to be effective 5/19/2019.

Filed Date: 3/20/19.

Accession Number: 20190320-5150.

Comments Due: 5 p.m. ET 4/10/19.

Docket Numbers: ER19-1394-000.

Applicants: Endeavor Wind II, LLC.

Description: Baseline eTariff Filing: Endeavor Wind II, LLC Application for Market-Based Rates to be effective 5/5/2019.

Filed Date: 3/20/19.

Accession Number: 20190320-5151.

Comments Due: 5 p.m. ET 4/10/19.

Docket Numbers: ER19-1395-000.

Applicants: NSTAR Electric Company.

Description: Tariff Cancellation: Cancellation of Design Engineering Construction Agrmnt w/NSTAR & New England Pwr to be effective 3/21/2019.

Filed Date: 3/21/19.

Accession Number: 20190321-5030.

Comments Due: 5 p.m. ET 4/11/19.

Docket Numbers: ER19-1397-000.

Applicants: Midcontinent Independent System Operator, Inc.

Description: § 205(d) Rate Filing: 2019-03-21_SA 3278 Beaver Creek Grimes MPFCA (J498 J524 J534 J535) to be effective 3/7/2019.

Filed Date: 3/21/19.

Accession Number: 20190321-5057.

Comments Due: 5 p.m. ET 4/11/19.

Docket Numbers: ER19-1399-000.

Applicants: Midcontinent Independent System Operator, Inc.

Description: § 205(d) Rate Filing: 2019-03-21_SA 3279 Johnson Junction-Ortonville Line MPFCA (J493 J526) MRES to be effective 3/7/2019.

Filed Date: 3/21/19.

Accession Number: 20190321-5093.

Comments Due: 5 p.m. ET 4/11/19.

Docket Numbers: ER19-1400-000.

Applicants: Emera Maine.

Description: § 205(d) Rate Filing: MPD OATT Formula Rates Revisions to be effective 6/1/2019.

Filed Date: 3/21/19.

Accession Number: 20190321-5095.

Comments Due: 5 p.m. ET 4/11/19.

Docket Numbers: ER19-1401-000.

Applicants: Niagara Mohawk Power Corporation, New York Independent System Operator, Inc.

Description: § 205(d) Rate Filing: 205 agreement filing between Niagara Mohawk and Greenway Conservnacy to be effective 2/19/2019.

Filed Date: 3/21/19.

Accession Number: 20190321-5114.

Comments Due: 5 p.m. ET 4/11/19.

Docket Numbers: ER19-1402-000.

Applicants: Coyote Ridge Wind, LLC.

Description: Baseline eTariff Filing: Coyote Ridge Wind, LLC Application for Market-Based Rate Authority to be effective 5/21/2019.

Filed Date: 3/21/19.

Accession Number: 20190321-5120.

Comments Due: 5 p.m. ET 4/11/19.

Docket Numbers: ER19-1403-000.

Applicants: Duke Energy Carolinas, LLC.

Description: Notice of Cancellation of Jurisdictional Transmission Service Agreements Nos. 414, et al. of Duke Energy Carolinas, LLC.

Filed Date: 3/21/19.

Accession Number: 20190321-5129.

Comments Due: 5 p.m. ET 4/11/19.

Take notice that the Commission received the following electric reliability filings:

Docket Numbers: RR19-5-000.

Applicants: North American Electric Reliability Corporation, Texas Reliability Entity, Inc.

Description: Joint Petition of the North American Electric Reliability Corporation and Texas Reliability Entity, Inc. for Approval of Amendments to the Texas Reliability Entity, Inc. Bylaws.

Filed Date: 3/20/19.

Accession Number: 20190320-5172.

Comments Due: 5 p.m. ET 4/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2019.
Nathaniel J. Davis, Sr.,
Deputy Secretary.

[FR Doc. 2019-05897 Filed 3-27-19; 8:45 am]

BILLING CODE 6717-01-P